NATIONAL COUNCIL ON DISABILITY (NCD)

Sunshine Act Meetings

Notice, Correction

Type: Quarterly Meeting.

Summary: NCD published a Sunshine Act Meeting Notice in the Federal Register on November 12, 2010, notifying the public of a quarterly meeting in Washington, DC. The times have been changed for a portion of the meeting on December 3.

FOR FURTHER INFORMATION CONTACT: Mark Quigley, Director of Communications, NCD, 1331 F Street, NW., Suite 850, Washington, DC 20004; 202-272-2004 (voice), 202-272-2074 TTY; 202-272-2022 Fax.

Correction

In the Federal Register on November 12, 2010, in FR Doc. 2010-28647, on page 69473, correct Matters to be Considered for December 3 to read:

December 3

8:30 a.m.-9:30 a.m. Speaker on Fiscal/Deficit Commission

9:30 a.m.-11:30 a.m. Continuation of NCD Open Meeting

11:30 a.m. Adjournment

Dated: November 17, 2010.
Aaron Bishop,
Executive Director.

[FR Doc. 2010-29378 Filed 11-17-10; 4:15 pm]

BILLING CODE 6820-MA-P